DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-1243.

Project: Minority AIDS Initiative-Management Reporting Tools (MAI-MRTs)—(OMB No. 0930-0357)—Renewal

The Substance Abuse and Mental Health Services Administration (SAMHSA), Center for Substance Abuse Prevention (CSAP) is requesting from the Office of Management and Budget (OMB) approval for the renewal of the Minority AIDS Initiative (MAI) monitoring tools, which includes both youth and adult questionnaires as well as the quarterly progress report. This renewal includes the inclusion of new cohorts.

The cohorts of grantees funded by the MAI and included in this clearance request are:

• Prevention Navigators 2019

• Prevention Navigators 2020

• Prevention Navigators 2021

• Prevention Navigators 2022

• Prevention Navigators 2023

The target population for the MAI grantees will be at-risk minority adolescents and young adults. All MAI grantees are expected to report their monitoring data using SAMHSA's Strategic Prevention Framework (SPF) to target minority populations, as well as other high-risk groups residing in communities of color with high prevalence of Substance Abuse and HIV/AIDS. The primary objectives of the monitoring tools include:

• Assess the success of the MAI in reducing risk factors and increasing protective factors associated with the transmission of the Human Immunodeficiency Virus (HIV), Hepatitis C Virus (HCV), and other sexually transmitted diseases (STD).

• Measure the effectiveness of evidence-based programs and infrastructure development activities such as: outreach and training, mobilization of key stakeholders, substance abuse and HIV/AIDS counseling and education, testing, referrals to appropriate medical treatment and/or other intervention strategies (i.e., cultural enrichment activities, educational and vocational resources, social marketing campaigns, and computer-based curricula).

• Investigate intervention types and features that yield the best outcomes for specific population groups.

• Assess the extent to which access to health care was enhanced for population groups and individuals vulnerable to behavioral health disparities residing in communities targeted by funded interventions.

• Assess the process of adopting and implementing the SPF with the target populations.

Table 1—Estimates of Annualized Hour Burden
Type of respondent activity | Number of respondents | Responses per respondent | Total responses | Hours per response | Total burden hours
Quarterly Progress Report | 183 | 4 | 732 | 4 | 2,928
Adult questionnaire | 10,000 | 3 | 30,000 | .20 | 6,000
Youth questionnaire | 2,500 | 3 | 7,500 | .20 | 1,500
Total | 12,683 |  | 38,232 |  | 10,428

Written comments and recommendations concerning the proposed information collection should be sent by July 5, 2024 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to 202-395-7285 or mail them to: Office of Management and Budget, Office of Information and Regulatory Affairs, New Executive Office Building, Room 10102, Washington, DC 20503.

Alicia Broadus,
Public Health Advisor.

[FR Doc. 2024-12316 Filed 6-4-24; 8:45 am]

BILLING CODE 4162-20-P